LEGAL SERVICES CORPORATION

Sunshine Act Meeting of the Board of Directors Committee on Provision for the Delivery of Legal Services

Time and Date: The Committee on Provision for the Delivery of Legal Services of the Legal Services Corporation Board of Directors will meet on November 8, 2002. The meeting will begin at 9 a.m. and continue until the Committee concludes its agenda.

Location: The W Los Angeles Hotel, 930 Hilgard Avenue, Los Angeles, CA

Status of Meeting: Open.

Matters To be Considered: 1. Approval of agenda.

2. Approval of the minutes of the Committee's meeting of August 23, 2002.

3. Panel presentations by three LSC-funded programs (Legal Aid of Orange County, Neighborhood Legal Services of Los Angeles County, and the Legal Aid Foundation of Los Angeles) in the Los Angeles Basin Region.

(1) An Overview of the Demographics of Poverty and Diversity in the Los Angeles Basin, including a presentation on the diversity of legal services to non-English speaking clients. Presented by program executive directors, staff, and community partners.

(2) An in-depth presentation of programs' substantive advocacy, with a specific focus on the problems of affordable housing and health care. Presented by programs' advocacy staff.

4. Consider and act on other business.

5. Public comment.

FOR MORE INFORMATION CONTACT: Victor M. Fortuno, Vice President for Legal Affairs, General Counsel & Corporate Secretary of the Corporation, at (202) 336-8800.

Special Needs: Upon request, meeting notices will be made available in alternate formats to accommodate visual and hearing impairments. Individuals who have a disability and need an accommodation to attend the meeting may notify Elizabeth S. Cushing, at (202) 336-8800.

Dated: November 1, 2002.
Victor M. Fortuno,
Vice President for Legal Affairs, General Counsel & Corporate Secretary.

[FR Doc. 02-28301 Filed 11-4-02; 10:12 am]

BILLING CODE 7050-01-P